NUCLEAR REGULATORY COMMISSION

Sunshine Federal Register Notice

Agency Holding the Meetings: Nuclear Regulatory Commission.

Date: Weeks of August 10, 17, 24, 31, September 7, 14, 2009.

Place: Commissioners' Conference Room, 11555 Rockville Pike, Rockville, Maryland.

Status: Public and closed.

Week of August 10, 2009

Tuesday, August 11, 2009

9:30 a.m.

Briefing on Research and Test Reactor Challenges (Public Meeting). (Contact: Duane Hardesty, 301 415-3724.)

This meeting will be webcast live at the Web address— http://www.nrc.gov.

Week of August 17, 2009—Tentative

There are no meetings scheduled for the week of August 17, 2009.

Week of August 24, 2009—Tentative

There are no meetings scheduled for the week of August 24, 2009.

Week of August 31, 2009—Tentative

Thursday, September 3, 2009

9:30 a.m.

Meeting with Organization of Agreement States (OAS) and Conference of Radiation Control Program Directors (CRCPD) (Public Meeting) (Contact: Andrea Jones, 301 415-2309).

This meeting will be webcast live at the Web address— http://www.nrc.gov.

Week of September 7, 2009—Tentative

There are no meetings scheduled for the week of September 7, 2009.

Week of September 14, 2009—Tentative

There are no meetings scheduled for the week of September 14, 2009.

*The schedule for Commission meetings is subject to change on short notice. To verify the status of meetings, call (recording)—(301) 415-1292. Contact person for more information: Rochelle Bavol, (301) 415-1651.

Additional Information

Affirmation of Southern Nuclear Operating Co. (Vogtle Electric Generating Plant, Units 3 and 4), LBP-09-3 (Ruling on Standing and Contention Admissibility) previously postponed from July 23, 2009, was held on July 31, 2009.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g., braille, large print), please notify the NRC's Disability Program Coordinator, Rohn Brown, at 301-492-2279, TDD: 301-415-2100, or by e-mail at rohn.brown@nrc.gov. Determinations on requests for reasonable accommodation will be made on a case-by-case basis.

This notice is distributed electronically to subscribers. If you no longer wish to receive it, or would like to be added to the distribution, please contact the Office of the Secretary, Washington, DC 20555 (301-415-1969), or send an e-mail to darlene.wright@nrc.gov.

Dated: August 6, 2009.
Rochelle C. Bavol,
Office of the Secretary.

[FR Doc. E9-19294 Filed 8-7-09; 4:15 pm]

BILLING CODE 7590-01-P